DEPARTMENT OF COMMERCE

International Trade Administration

America Crece Industry Roundtable and Request for Public Comment

AGENCY: International Trade Administration, Commerce.

ACTION: Request for public comments and notice of a roundtable discussion on energy and other infrastructure opportunities in Latin America and the Caribbean under the America Crece initiative.

SUMMARY: The International Trade Administration (ITA) of the Department of Commerce seeks individual comments from industry on government programs aimed at catalyzing U.S. private sector participation in commercial opportunities in energy and other infrastructure in Latin America and the Caribbean (LAC). Through this notice, ITA announces a request for written public comments and announces a roundtable discussion with industry representatives and U.S. government staff. This notice serves as an initial step in improving ITA's understanding of private sector interests and programmatic and policy needs in energy and other infrastructure sectors in the LAC region under the new America Crece initiative. This notice further sets forth topics for discussion and comment.

DATES:

Event: The roundtable will be held on November 7, 2019 from 9:30 a.m. to 12:30 p.m., Eastern Daylight Time.

Written Comments: To be ensured of consideration, written public comments must be received on or before November 22, 2019. Comments should not include any business confidential information.

Event Registration: ITA will evaluate registrations based on the submitted information (see below) and inform applicants of selection decisions, which will be made on a rolling basis until 30 participants have been selected.

ADDRESSES:

Event: The roundtable will be held at the Department of Commerce, Commerce Research Library, 1401 Constitution Ave. NW, Washington, DC 20230.

Comments: Written comments should be sent by electronic mail addressed to AmericaCreceOutreach@trade.gov. Comments may also be submitted by mail addressed to: Attn: America Crece, Deputy Assistant Secretary for the Western Hemisphere, International Trade Administration, U.S. Department of Commerce, 1401 Constitution Ave. NW, Room 30019, Washington, DC 20230. Although comments may be submitted by mail, ITA prefers to receive comments via electronic mail.

For alternatives to online or mail submissions, please contact Christian Herman, International Trade Specialist, ITA, at (202) 482-5430.

FOR FURTHER INFORMATION CONTACT: AmericaCreceOutreach@trade.gov or Christian Herman, International Trade Specialist, ITA, at (202) 482-5430.

SUPPLEMENTARY INFORMATION: In 2018, the government of the United States launched the America Crece (Growth in the Americas) initiative to foster coordinated, whole-of-government efforts in support of all U.S. energy and infrastructure engagement in the LAC region. This request for comment and event notification seeks public comment on priorities and strategies to enhance commercial engagement in energy and other infrastructure in the LAC region through programs under the umbrella of the America Crece initiative.

The Department seeks individual input and views at the November 7, 2019 roundtable regarding the LAC region, including the following topics:

• The principal foreign regulatory and policy barriers to growing sales and exports to the LAC region and how to prioritize these barriers for USG engagement.

• The principal foreign barriers to investment in the energy and infrastructure sectors in LAC countries.

• The challenges U.S. companies face in seeking and/or providing competitive financing for projects in the LAC region.

• Proactive solutions or actions that the U.S. government could pursue that would have an impact on catalyzing U.S. private sector participation in commercial opportunities in LAC.

• Insights from working with USG agencies—such as State, Commerce, Treasury, Energy, USTDA, EXIM, OPIC, USAID—in doing business in LAC, including assessments of the strengths and weaknesses of the U.S. government tools to promote U.S. businesses in the energy and infrastructure sectors in LAC countries.

Event: The November 7, 2019 roundtable will provide an overview of the America Crece initiative and will include a discussion session during which participants will provide insights and feedback related to the initiative and energy and infrastructure in the LAC region. Due to limited space, the event is closed to press and observers. Industry participation is limited to 30 qualifying industry representatives.

Selection

To attend, participants should submit the below information to AmericaCreceOutreach@trade.gov by November 1, 2019. I&A will evaluate registrations based on the submitted information (and based on the criteria below) on a rolling basis until 30 participants have been selected and inform applicants of selection decisions.

Applicants are encouraged to send representatives at a sufficiently senior level to be knowledgeable about their organization's capabilities, interests and challenges in the LAC region.

Registrations should include the following information in their registration email:

• Name of attendee and short bio.

• Organization and brief organization description.

• A statement self-certifying how the organization meets each of the following criteria:

1. It is not majority owned by a foreign government entity (or entities).

2. Its existing products or services are either produced in the United States, or, if not, marketed under the name of a U.S. firm and have demonstrable U.S. content as a percentage of the value of the finished product or service and/or it is a major investor in projects in LAC in which companies with such products may compete.

3. It has already exported from the United States to or invested in the LAC region.

4. In the case of a trade association, academic or research institution, the applicant will only be representing companies during the Roundtable that satisfy each of the criteria above.

Selection will be based on the following criteria:

• Suitability of the company's (or in the case of another organization, represented companies' or constituents') existing products or services to commercial opportunities in the energy and infrastructure sectors in the LAC region.

• Suitability of the company's (or in the case of another organization, represented companies' or constituents') experience pursuing commercial opportunities in the LAC region.

• Suitability of the representative's position and biography to be able to engage in the conversation.

Dated: October 22, 2019.
Man Cho,
Deputy Director, Office of Energy and Environmental Industries.

[FR Doc. 2019-23463 Filed 10-25-19; 8:45 am]

BILLING CODE 3510-DR-P